DEPARTMENT OF DEFENSE

Office of the Secretary

Vietnam War Commemoration Advisory Committee; Notice of Federal Advisory Committee Meeting

AGENCY: Deputy Chief Management Officer, Department of Defense.

ACTION: Notice of Federal Advisory Committee meeting.

SUMMARY: The Department of Defense (DoD) is publishing this notice to announce that the following Federal Advisory Committee meeting of the Vietnam War Commemoration Advisory Committee will take place.

DATES: Open to the public Thursday, September 28, 2017, from 10:00 a.m. to 12:00 p.m.

ADDRESSES: Pentagon Library and Conference Center, 1155 Defense Pentagon, Washington, DC 20301-1155.

FOR FURTHER INFORMATION CONTACT: Mrs. Marcia Moore, 703-571-2005 (Voice), 703-692-4691 (Facsimile), marcia.l.moore12.civ@mail.mil (Email). Mailing address is DoD Vietnam War Commemoration Program Office, 241 18th Street South, Suite 101, Arlington, VA 22202. Web site: http://www.vietnamwar50th.com. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

In accordance with Public Law 110-181 sec. 598; the 2008 National Defense Authorization Act authorized the Secretary of Defense to establish the Vietnam War Commemoration Office. The Office promotes events, exhibits, partnerships, and other activities to meet the objectives specified in Law: 1. To thank and honor veterans of the Vietnam War, including personnel who were held as prisoners of war (POW), or listed as missing in action (MIA), for their service and sacrifice on behalf of the United States and to thank and honor the families of these veterans. 2. To highlight the service of the Armed Forces during the Vietnam War and the contributions of Federal agencies and governmental and non-governmental organizations that served with, or in support of, the Armed Forces. 3. To pay tribute to the contributions made on the home front by the people of the United States during the Vietnam War. 4. To highlight the advances in technology, science, and medicine related to military research conducted during the Vietnam War. 5. To recognize the contributions and sacrifices made by the allies of the United States during the Vietnam War.

Purpose of the Meeting: The Vietnam War Commemoration Advisory Committee is providing recommendations on the Vietnam War Commemoration Office's Strategic Plan.

Agenda: The meeting will begin at 10:00 a.m. and end at 12:00 p.m. on September 28, 2017. Members will share their individual comments on the Strategic Plan and will then build a consensus on their recommendations.

Meeting Accessibility: The walk to the meeting room will take approximately 10 minutes. Ramp access is available for the physically challenged. Visitors in wheelchairs must be accompanied by someone who will assist them.

Written Statements: The public is invited to submit written statements to the Designated Federal Officer by Friday, September 22, 2017 using the contact information in the FOR FURTHER INFORMATION CONTACT section.

Dated: August 24, 2017.
Aaron Siegel,
Alternate OSD Federal Register Liaison Officer, Department of Defense.

[FR Doc. 2017-18321 Filed 8-29-17; 8:45 am]

BILLING CODE 5001-06-P